OVERSEAS PRIVATE INVESTMENT CORPORATION

Sunshine Act Cancellation Notice—OPIC September 10, 2014 Public Hearing

OPIC's Sunshine Act notice of its Public Hearing in Conjunction with each Board meeting was published in the Federal Register (Volume 79, Number 169, Page 52073) on September 2, 2014. No requests were received to provide testimony or submit written statements for the record; therefore, OPIC's public hearing scheduled for 2 p.m., September 10, 2014 in conjunction with OPIC's September 18, 2014 Board of Directors meeting has been cancelled.

Contact person for information: Information on the hearing cancellation may be obtained from Connie M. Downs at (202) 336-8438, or via email at Connie.Downs@opic.gov.

Dated: September 4, 2014.
Connie M. Downs,
OPIC Corporate Secretary.

[FR Doc. 2014-21478 Filed 9-4-14; 4:15 pm]

BILLING CODE 3210-01-P